ENVIRONMENTAL PROTECTION AGENCY

40 CFR Part 82

[EPA-HQ-OAR-2017-0472; FRL-9975-19-OAR]

RIN 2060-AT53

Protection of Stratospheric Ozone: Revision to References for Refrigeration and Air Conditioning Sector To Incorporate Latest Edition of Certain Industry, Consensus-Based Standards; Withdrawal

AGENCY: Environmental Protection Agency (EPA).

ACTION: Withdrawal of direct final rule.

SUMMARY: The Environmental Protection Agency (EPA) received adverse comment on the direct final rule titled “Protection of Stratospheric Ozone: Revision to References for Refrigeration and Air Conditioning Sector to Incorporate Latest Edition of Certain Industry, Consensus-based Standards,” published on December 11, 2017. Therefore, through this document we are withdrawing that direct final rule.

DATES: The direct final rule published at 82 FR 58122 on December 11, 2017 is withdrawn effective March 7, 2018.

FOR FURTHER INFORMATION CONTACT: Chenise Farquharson, Stratospheric Protection Division, Office of Atmospheric Programs (Mail Code 6205T), U.S. Environmental Protection Agency, 1200 Pennsylvania Avenue NW, Washington, DC 20460; telephone number: (202) 564-7768; email address: farquharson.chenise@epa.gov.

SUPPLEMENTARY INFORMATION: The EPA received adverse comment on the direct final rule “Protection of Stratospheric Ozone: Revision to References for Refrigeration and Air Conditioning Sector to Incorporate Latest Edition of Certain Industry, Consensus-based Standards,” published on December 11, 2017 (82 FR 58122). The direct final rule stated that if the Agency received adverse comment by January 25, 2018, the direct final rule would not take effect and EPA would publish a timely withdrawal in the Federal Register. Because we received adverse comment on that direct final rule during that comment period we are withdrawing the direct final rule in this document. We will address all significant comments in any subsequent final action, which would be based on the parallel proposed rule also published on December 11, 2017 (82 FR 58154). As stated in the direct final rule and the parallel proposed rule, there will not be a second comment period on this action.

List of Subjects in 40 CFR Part 82

Environmental protection, Administrative practice and procedure, Air pollution control, Incorporation by reference, Recycling, Reporting and recordkeeping requirements, Stratospheric ozone layer.

Dated: February 28, 2018.
E. Scott Pruitt,
Administrator.

Accordingly, the amendments to appendix R to subpart G of 40 CFR part 82 published on December 11, 2017 (82 FR 58122) are withdrawn effective March 7, 2018.

[FR Doc. 2018-04521 Filed 3-6-18; 8:45 am]

BILLING CODE 6560-50-P